DEPARTMENT OF COMMERCE

National Oceanic and Atmospheric Administration

RIN 0648-XB84

Atlantic Highly Migratory Species (HMS); Exempted Fishing Permits

AGENCY: National Marine Fisheries Service (NMFS), National Oceanic and Atmospheric Administration (NOAA), Commerce.

ACTION: Notice.

SUMMARY: NMFS is not issuing, at this time, an exempted fishing permit (EFP) requested by Blue Water Fishermen's Association to collect data on the performance of circle hooks with regard to target catch and bycatch rates, among other variables, associated with pelagic longline (PLL) fishing activities inside the existing Charleston Bump and Florida East Coast PLL closed areas. NMFS is investigating additional means of obtaining this data.

FOR FURTHER INFORMATION CONTACT: Russell Dunn, 727-824-5399; fax: 727-824-5398; or Chris Rilling, 301-713-2347; fax: 301-713-1917.

SUPPLEMENTARY INFORMATION: EFPs are requested and issued under the authority of the Magnuson-Stevens Fishery Conservation and Management Act (16 U.S.C. 1801 et seq.) and/or the Atlantic Tunas Convention Act (16 U.S.C. 971 et seq.). Regulations at 50 CFR 600.745 and 50 CFR 635.32 govern scientific research activity, exempted fishing, and exempted educational activity with respect to Atlantic Highly Migratory Species.

The Blue Water Fishermen's Association requested exemptions from certain regulations applicable to the harvest and landing of Atlantic HMS in order to collect data on the performance of mandatory circle hooks with regard to target catch and bycatch rates, hooking location, and mortality of fish at haul back. The proposal included data collection in the existing Charleston Bump and Florida East Coast pelagic longline closed areas. After considering public comment received, as requested in the Federal Register (72 FR 11327, March 13, 2007 );(72 FR 18208, April 11, 2007); (72 FR 25748, May, 7, 2007), the Agency has decided not to issue a permit as requested by the current application. Specifically, the proposal did not discuss anticipated effort levels or the spatio-temporal distribution of effort, did not identify “control” fishing locations, and did not justify the number of vessels proposed to participate in the fishery. Absence of this information limits the ability of the Agency to evaluate the potential effectiveness of the data collection program and to analyze its impacts.

NMFS supports collecting such data under controlled circumstances and as part of a program with a scientifically rigorous study design. These data are critical to evaluating the efficacy of bycatch mitigation efforts, including required bycatch reduction gears and time/area closures in the Atlantic pelagic longline fishery. As such, NMFS is actively considering under what circumstances and how best to conduct scientific research that is necessary to evaluate the effectiveness of current bycatch reduction measures.

Dated: August 3, 2007.
Alan Risenhoover,
Director, Office of Sustainable Fisheries, National Marine Fisheries Service.

[FR Doc. E7-15511 Filed 8-8-07; 8:45 am]

BILLING CODE 3510-22-S